DEPARTMENT OF DEFENSE

Office of the Secretary

[Docket ID: DOD-2020-OS-0034]

Submission for OMB Review; Comment Request

AGENCY: Office of the Secretary of Defense, Department of Defense (DoD).

ACTION: 30-Day information collection notice.

SUMMARY: The Department of Defense has submitted to OMB for clearance the following proposal for collection of information under the provisions of the Paperwork Reduction Act.

DATES: Consideration will be given to all comments received by September 28, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: Regular Generic Clearance for the Collection of Focus Groups, Usability Studies, Preliminary and Formative Research, Routine Reports and Survey Testing; OMB Control Number 0704-XXXX.

Type of Request: New.

Number of Respondents: 300,000.

Responses per Respondent: 1.

Annual Responses: 300,000.

Average Burden per Response: 10 minutes.

Annual Burden Hours: 50,000.

Needs and Uses: The proposed information collection activity provides a means to gather data science, conduct qualitative analysis, statistical experiments, program evaluation, test development, and forecasting in an efficient, timely manner in order to improve and monitor DoD programs and policies that impact the general public. These collections will provide insights into existing programs and support the construction of new studies and programs. In accordance with the Executive Services Directorate commitment to be the preeminent provider of knowledge managements services to the warfighter, Department and throughout the Federal government, these collections will allow for ongoing collaborative and actionable communications between the Agency and its customers and stakeholders. The information collected will contribute directly to the improvement of program management, surveys, studies and research.

The information collections will be used to plan and design surveys, conduct initial testing, and the collections will not raise substantive policy issues, issues of significant concern to other agencies, be used to make high-level policy or resource allocation decisions or involve potentially controversial topics. Data collected will not be generalized to the overall population. However, the collections will be low-burden, may involve the use of statistical rigor, and may publish their results. The participation of respondents will be voluntary and Personally Identifiable Information (PII) is collected only to the extent necessary and is not retained.

Affected Public: Business or other for-profit; not for profit institutions; individuals or households; State, local, or tribal governments; Federal government.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: August 18, 2020.
Aaron T. Siegel,
Alternate OSD Federal Register, Liaison Officer, Department of Defense.

[FR Doc. 2020-18868 Filed 8-26-20; 8:45 am]

BILLING CODE 5001-06-P